DEPARTMENT OF ENERGY

Federal Energy Regulatory Commission

Combined Notice of Filings #1

Take notice that the Commission received the following electric corporate filings:

Docket Numbers: EC23-35-000.

Applicants: RWE Aktiengesellschaft, Baron Winds LLC, Boiling Springs Wind Farm, LLC, Cassadaga Wind LLC, Hardin Wind LLC, Hickory Park Solar, LLC, Iron Horse Battery Storage, LLC, Munnsville Wind Farm, LLC, Pioneer Trail Wind Farm, LLC, Radford's Run Wind Farm, LLC, RWE Renewables O&M, LLC, RWE Renewables QSE, LLC, RWE Supply & Trading Americas, LLC, RWE Supply & Trading US, LLC, Settlers Trail Wind Farm, LLC, Stony Creek Wind Farm, LLC, Wildcat Wind Farm I, LLC.

Description: Joint Application for Authorization Under Section 203 of the Federal Power Act of RWE Aktiengesellschaft, et al.

Filed Date: 11/30/22.

Accession Number: 20221130-5533.

Comment Date: 5 p.m. ET 12/21/22.

Take notice that the Commission received the following exempt wholesale generator filings:

Docket Numbers: EG23-27-000.

Applicants: Myrtle Solar, LLC.

Description: Myrtle Solar, LLC submits Notice of Self-Certification of Exempt Wholesale Generator Status of Myrtle Solar, LLC.

Filed Date: 11/30/22.

Accession Number: 20221130-5358.

Comment Date: 5 p.m. ET 12/21/22.

Docket Numbers: EG23-28-000.

Applicants: Prairie Switch Wind, LLC.

Description: Prairie Switch Wind, LLC submits Notice of Self-Certification of Exempt Wholesale Generator Status.

Filed Date: 12/1/22.

Accession Number: 20221201-5162.

Comment Date: 5 p.m. ET 12/22/22.

Take notice that the Commission received the following Complaints and Compliance filings in EL Dockets:

Docket Numbers: EL23-13-000.

Applicants: Roy J. Shanker v. PJM Interconnection LLC.

Description: Complaint of Roy J. Shanker v. PJM Interconnection LLC.

Filed Date: 11/30/22.

Accession Number: 20221130-5523.

Comment Date: 5 p.m. ET 12/20/22.

Take notice that the Commission received the following electric rate filings:

Docket Numbers: ER20-2101-002.

Applicants: Fern Solar LLC.

Description: Supplement to July 26, 2022, Notice of Non-Material Change in Status of Fern Solar LLC.

Filed Date: 11/21/22.

Accession Number: 20221121-5214.

Comment Date: 5 p.m. ET 12/12/22.

Docket Numbers: ER21-2456-000.

Applicants: Rainbow Energy Marketing Corporation.

Description: Refund Report: Refund Report to be effective N/A.

Filed Date: 12/1/22.

Accession Number: 20221201-5104.

Comment Date: 5 p.m. ET 12/22/22.

Docket Numbers: ER21-2464-000.

Applicants: Avangrid Renewables, LLC.

Description: Refund Report: Refund Report to be effective N/A.

Filed Date: 12/1/22.

Accession Number: 20221201-5057.

Comment Date: 5 p.m. ET 12/22/22.

Docket Numbers: ER22-1170-000; ER22-1170-001.

Applicants: Southern Company Services, Inc.

Description: Southern Companies submits an Amendment to its March 2, 2022 Waiver Request for the NAESB business practice standards.

Filed Date: 4/6/22.

Accession Number: 20220406-5255.

Comment Date: 5 p.m. ET 12/22/22.

Docket Numbers: ER22-2901-000; ER22-2902-000.

Applicants: Power City Partners, L.P., Carthage Energy, LLC.

Description: Supplement to November 18, 2022, Carthage Energy, LLC, et al. tariff filing.

Filed Date: 11/30/22.

Accession Number: 20221130-5514.

Comment Date: 5 p.m. ET 12/21/22.

Docket Numbers: ER23-518-000.

Applicants: New England Power Pool Participants Committee.

Description: § 205(d) Rate Filing: Dec 2022 Membership Filing to be effective 12/1/2022.

Filed Date: 11/30/22.

Accession Number: 20221130-5223.

Comment Date: 5 p.m. ET 12/21/22.

Docket Numbers: ER23-519-000.

Applicants: Pacific Gas and Electric Company.

Description: § 205(d) Rate Filing: November 2022 Western WDT Service Agreement Biannual Filing (SA 17) to be effective 2/1/2023.

Filed Date: 11/30/22.

Accession Number: 20221130-5229.

Comment Date: 5 p.m. ET 12/21/22.

Docket Numbers: ER23-520-000.

Applicants: Pacific Gas and Electric Company.

Description: § 205(d) Rate Filing: November 2022 Western Interconnection Biannual Filing (TO SA 59) to be effective 2/1/2023.

Filed Date: 11/30/22.

Accession Number: 20221130-5231.

Comment Date: 5 p.m. ET 12/21/22.

Docket Numbers: ER23-521-000.

Applicants: RWE Supply & Trading Americas, LLC.

Description: § 205(d) Rate Filing: Notice of Succession to Market Based Rate Tariff to be effective 12/1/2022.

Filed Date: 11/30/22.

Accession Number: 20221130-5233.

Comment Date: 5 p.m. ET 12/21/22.

Docket Numbers: ER23-522-000.

Applicants: RWE Renewables Energy Marketing, LLC.

Description: § 205(d) Rate Filing: Notice of Succession to be effective 12/1/2022.

Filed Date: 11/30/22.

Accession Number: 20221130-5237.

Comment Date: 5 p.m. ET 12/21/22.

Docket Numbers: ER23-523-000.

Applicants: Midcontinent Independent System Operator, Inc.

Description: § 205(d) Rate Filing: 2022-11-30_Schedule 2 MISO TOs to be effective 12/1/2022.

Filed Date: 11/30/22.

Accession Number: 20221130-5239.

Comment Date: 5 p.m. ET 12/21/22.

Docket Numbers: ER23-524-000.

Applicants: Arizona Public Service Company.

Description: § 205(d) Rate Filing: Rate Schedule No. 217, Exhibit B.BKE-LIB, Revisions to Attachment No. 1 to be effective 10/1/2021.

Filed Date: 11/30/22.

Accession Number: 20221130-5270.

Comment Date: 5 p.m. ET 12/21/22.

Docket Numbers: ER23-525-000.

Applicants: Public Service Company of Colorado.

Description: § 205(d) Rate Filing: 2022-11-30 PSCo Concurrence-TSGT Intercon of Milk Creek-719-0.0.0 to be effective 11/17/2022.

Filed Date: 11/30/22.

Accession Number: 20221130-5277.

Comment Date: 5 p.m. ET 12/21/22.

Docket Numbers: ER23-526-000.

Applicants: Public Service Company of New Mexico.

Description: § 205(d) Rate Filing: Fourth Revised Service Agreement No. 278 to be effective 1/1/2023.

Filed Date: 11/30/22.

Accession Number: 20221130-5312.

Comment Date: 5 p.m. ET 12/21/22.

Docket Numbers: ER23-527-000.

Applicants: 64NB 8me LLC.

Description: Tariff Amendment: Cancellation entire tariff to be effective 12/1/2022.

Filed Date: 11/30/22.

Accession Number: 20221201-5000.

Comment Date: 5 p.m. ET 12/21/22.

Docket Numbers: ER23-528-000.

Applicants: 91MC 8me, LLC.

Description: Tariff Amendment: Cancellation entire tariff to be effective 12/1/2022.

Filed Date: 12/1/22.

Accession Number: 20221201-5001.

Comment Date: 5 p.m. ET 12/22/22.

Docket Numbers: ER23-529-000.

Applicants: Pacific Gas and Electric Company.

Description: Notice of Termination of Small Generator Interconnection Agreement of Pacific Gas and Electric Company.

Filed Date: 11/30/22.

Accession Number: 20221130-5493.

Comment Date: 5 p.m. ET 12/21/22.

Docket Numbers: ER23-530-000.

Applicants: Pacific Gas & Electric Company.

Description: Notice of Termination of Service Agreement of Pacific Gas and Electric Company.

Filed Date: 11/29/22.

Accession Number: 20221129-5232.

Comment Date: 5 p.m. ET 12/20/22.

Docket Numbers: ER23-531-000.

Applicants: Harry Allen Solar Energy LLC.

Description: § 205(d) Rate Filing: Harry Allen Solar Energy LLC to be effective 12/30/2022.

Filed Date: 12/1/22.

Accession Number: 20221201-5035.

Comment Date: 5 p.m. ET 12/22/22.

Docket Numbers: ER23-532-000.

Applicants: Midcontinent Independent System Operator, Inc.

Description: § 205(d) Rate Filing: 2022-12-01_CMMPA Attachment O Rate Protocol Revisions to be effective 2/1/2023.

Filed Date: 12/1/22.

Accession Number: 20221201-5044.

Comment Date: 5 p.m. ET 12/22/22.

Docket Numbers: ER23-533-000.

Applicants: Public Service Company of Colorado.

Description: Notice of Cancellation of Energy Exchange Agreement of Public Service Company of Colorado.

Filed Date: 11/30/22.

Accession Number: 20221130-5535.

Comment Date: 5 p.m. ET 12/21/22.

Docket Numbers: ER23-534-000.

Applicants: ISO New England Inc., New England Power Pool.

Description: ISO New England Inc. and New England Power Pool filing of Installed Capacity Requirements, Hydro-Quebec Interconnection Capability Credits and Related Values for 2023-2024, 2024-2025 and 2025-2026 Annual Reconfiguration Auction.

Filed Date: 11/30/22.

Accession Number: 20221130-5536.

Comment Date: 5 p.m. ET 12/21/22.

Docket Numbers: ER23-535-000.

Applicants: Alabama Power Company, Mississippi Power Company, Georgia Power Company.

Description: § 205(d) Rate Filing: Alabama Power Company submits tariff filing per 35.13(a)(2)(iii: Conez Solar (Solar & Battery) LGIA Filing to be effective 11/23/2022.

Filed Date: 12/1/22.

Accession Number: 20221201-5111.

Comment Date: 5 p.m. ET 12/22/22.

Docket Numbers: ER23-536-000.

Applicants: Midcontinent Independent System Operator, Inc.

Description: § 205(d) Rate Filing: 2022-12-01_Updates to the Default Technology Specific Avoidable Costs Filing to be effective 1/31/2023.

Filed Date: 12/1/22.

Accession Number: 20221201-5135.

Comment Date: 5 p.m. ET 12/22/22.

Docket Numbers: ER23-537-000.

Applicants: Southwest Power Pool, Inc.

Description: § 205(d) Rate Filing: 1313R16 Oklahoma Gas and Electric Company NITSA and NOA to be effective 11/1/2022.

Filed Date: 12/1/22.

Accession Number: 20221201-5141.

Comment Date: 5 p.m. ET 12/22/22.

Docket Numbers: ER23-538-000.

Applicants: Niagara Mohawk Power Corporation, New York Independent System Operator, Inc.

Description: § 205(d) Rate Filing: Niagara Mohawk Power Corporation submits tariff filing per 35.13(a)(2)(iii: NYISO Joint 205: Amended SGIA NYISO, National Grid, Darby Solar, SA2556 to be effective 11/16/2022.

Filed Date: 12/1/22.

Accession Number: 20221201-5142.

Comment Date: 5 p.m. ET 12/22/22.

Docket Numbers: ER23-539-000.

Applicants: Morongo Transmission LLC.

Description: § 205(d) Rate Filing: Annual Operating Cost Update Filing 2023 to be effective 1/1/2023.

Filed Date: 12/1/22.

Accession Number: 20221201-5146.

Comment Date: 5 p.m. ET 12/22/22.

Docket Numbers: ER23-540-000.

Applicants: Duke Energy Florida, LLC.

Description: § 205(d) Rate Filing: DEF-SECI Dynamic Transfer Agmt RS No. 380 to be effective 2/1/2023.

Filed Date: 12/1/22.

Accession Number: 20221201-5170.

Comment Date: 5 p.m. ET 12/22/22.

Docket Numbers: ER23-541-000.

Applicants: Niagara Mohawk Power Corporation, New York Independent System Operator, Inc.

Description: § 205(d) Rate Filing: Niagara Mohawk Power Corporation submits tariff filing per 35.13(a)(2)(iii: NYISO Joint 205: Amended SGIA NYISO, National Grid, Branscomb Solar (SA2557) to be effective 11/16/2022.

Filed Date: 12/1/22.

Accession Number: 20221201-5174.

Comment Date: 5 p.m. ET 12/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2022.
Kimberly D. Bose,
Secretary.

[FR Doc. 2022-26838 Filed 12-8-22; 8:45 am]

BILLING CODE 6717-01-P